DEPARTMENT OF TRANSPORTATION

Federal Aviation Administration

14 CFR Part 71

[Docket No. FAA-2017-0355; Airspace Docket No. 17-AGL-12]

Amendment of Class D and E Airspace; Mosinee, WI

AGENCY: Federal Aviation Administration (FAA), DOT.

ACTION: Final rule.

SUMMARY: This action modifies Class E airspace extending up to 700 feet above the surface at Central Wisconsin Airport, Mosinee, WI, to accommodate new standard instrument approach procedures for instrument flight rules (IFR) operations at the airport. This action is necessary due to the decommissioning of the Mosinee outer marker (OM) and DANCI locator outer marker (LOM) and cancellation of the associated approaches, and enhances the safety and management of IFR operations at the airport. This action also updates the geographic coordinates of the airport and the Wausau VHF Omni-Directional Radio Range and Collocated Tactical Air Navigation (VORTAC). This proposal also updates the geographic coordinates in Class D and Class E surface area airspace, and makes an editorial change in the legal description by replacing Airport/Facility Directory with the term Chart Supplement.

DATES: Effective 0901 UTC, October 12, 2017. The Director of the Federal Register approves this incorporation by reference action under Title 1, Code of Federal Regulations, part 51, subject to the annual revision of FAA Order 7400.11 and publication of conforming amendments.

ADDRESSES: FAA Order 7400.11A, Airspace Designations and Reporting Points, and subsequent amendments can be viewed online at http://www.faa.gov/air_traffic/publications/. For further information, you can contact the Airspace Policy Group, Federal Aviation Administration, 800 Independence Avenue SW., Washington, DC 20591; telephone: (202) 267-8783. The Order is also available for inspection at the National Archives and Records Administration (NARA). For information on the availability of FAA Order 7400.11A at NARA, call (202) 741-6030, or go to http://www.archives.gov/federal_register/code_of_federal-regulations/ibr_locations.html.

FAA Order 7400.11, Airspace Designations and Reporting Points, is published yearly and effective on September 15.

FOR FURTHER INFORMATION CONTACT: Walter Tweedy (prepared by Ron Laster), Federal Aviation Administration, Operations Support Group, Central Service Center, 10101 Hillwood Parkway, Fort Worth, TX 76177; telephone (817) 222-5802.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends Class D airspace, Class E extension area airspace, and Class E airspace extending upward 700 feet above the surface at Central Wisconsin Airport, Mosinee, WI, to support IFR operations at the airport.

History

The FAA published in the Federal Register (82 FR 22090, May 12, 2017) Docket No. FAA-2017-0355, a notice of proposed rulemaking (NPRM) to modify Class D airspace and Class E surface area airspace and airspace extending upward from 700 feet above the surface at Central Wisconsin Airport, Mosinee, WI. Interested parties were invited to participate in this rulemaking effort by submitting written comments on the proposal to the FAA. No comments were received.

Class D and E airspace designations are published in paragraph 5000, 6002 and 6005, respectively, of FAA Order 7400.11A, dated August 3, 2016, and effective September 15, 2016, which is incorporated by reference in 14 CFR 71.1. The Class E airspace designations listed in this document will be published subsequently in the Order.

Availability and Summary of Documents for Incorporation by Reference

This document amends FAA Order 7400.11A, Airspace Designations and Reporting Points, dated August 3, 2016, and effective September 15, 2016. FAA Order 7400.11A is publicly available as listed in the ADDRESSES section of this document. FAA Order 7400.11A lists Class A, B, C, D, and E airspace areas, air traffic service routes, and reporting points.

The Rule

This amendment to Title 14 Code of Federal Regulations (14 CFR) part 71 modifies Class E airspace extending upward from 700 feet above the surface within a 7-mile radius of Central Wisconsin Airport, with a segment 3.3 miles each side of the 350° bearing from the airport extending from the 7-mile radius to 12.3 miles north of the airport.

The segment within 4 miles each side of the Wausau VORTAC 039° radial extending from the 7-mile radius to 10.9 miles northeast of the airport would be removed due to the decommissioning of the Mosinee OM and DANCI LOM and cancellation of the associated approaches. This action enhances the safety and management of the standard instrument approach procedures for IFR operations at the airport. This action will also update the geographic coordinates of the airport and the Wausau VORTAC.

Additionally, this action replaces the outdated term Airport/Facility Directory with the term Chart Supplement in Class D and Class E surface area airspace, as well as updates the airport coordinates for Central Wisconsin Airport.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, would not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11A, Airspace Designations and Reporting Points, dated August 3, 2016, and effective September 15, 2016, is amended as follows:

Paragraph 5000 Class D Airspace.

* * * * *

AGL WI D Mosinee, WI [Amended]

Central Wisconsin Airport, WI

(Lat. 44°46′39″ N., long. 89°40′00″ W.)

That airspace extending upward from the surface to and including 3,800 feet MSL within a 4.5-mile radius of Central Wisconsin Airport. This Class D airspace area is effective during the specific dates and times established in advance by Notice to Airmen. The effective date and time will thereafter be continuously published in the Chart Supplement.

Paragraph 6002 Class E Airspace Designated as Surface Areas.

* * * * *

AGL WI E2 Mosinee, WI [Amended]

Central Wisconsin Airport, WI

(Lat. 44°46′39″ N., long. 89°40′00″ W.)

That airspace extending upward from the surface within a 4.5-mile radius of Central Wisconsin Airport. This Class E airspace area is effective during the specific dates and times established in advance by Notice to Airmen. The effective date and time will thereafter be continuously published in the Chart Supplement.

Paragraph 6005 Class E Airspace Areas Extending Upward From 700 Feet or More Above the Surface of the Earth.

* * * * *

AGL WI E5 Mosinee, WI [Amended]

Central Wisconsin Airport, WI

(Lat. 44°46′39″ N., long. 89°40′00″ W.)

Wausau VORTAC

(Lat. 44°50′48″ N., long. 89°35′12″ W.)

That airspace extending upward from 700 feet above the surface within a 7-mile radius of the Central Wisconsin Airport, and within 3.3 miles each side of the 350° bearing from the airport extending from the 7-mile radius to 12.3 miles north of the airport.

Issued in Fort Worth, Texas on July 27, 2017.
Walter Tweedy,
Acting Manager, Operations Support Group, ATO Central Service Center.

[FR Doc. 2017-16284 Filed 8-2-17; 8:45 am]

BILLING CODE 4910-13-P